ENVIRONMENTAL PROTECTION AGENCY

[FRL OP-OFA-200]

Environmental Impact Statements; Notice of Availability

Responsible Agency: Office of Federal Activities, General Information 202-993-3272 or https://www.epa.gov/nepa.

Weekly receipt of Environmental Impact Statements (EIS) Filed November 21, 2025 10 a.m. EST Through December 1, 2025 10 a.m. EST Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250163, Final, BLM, CA, Mojave Exploration Drilling Project, Review Period Ends: 01/05/2026, Contact: Brandon Anderson 760-833-7100.

EIS No. 20250164, Final, USAF, FL, SpaceX Starship-Super Heavy Cape Canaveral Space Force Station, Contact: Hilary Rummel 321-494-7732.

EIS No. 20250165, Draft, CHSRA, CA, California High-Speed Rail Project—Los Angeles to Anaheim Project Section, Comment Period Ends: 02/03/2026, Contact: Stefan Galvez-Abadia 916-324-1541.

EIS No. 20250166, Draft Supplement, USACE, LA, Morganza to the Gulf, Louisiana, Hurricane and Storm Damage Risk Reduction Project, Comment Period Ends: 01/23/2026, Contact: Jason Emery 504-862-2364.

EIS No. 20250167, Draft Supplement, NHTSA, REG, Draft Supplemental Environmental Impact Statement Safer Affordable Fuel-Efficient (SAFE) Vehicles Rule III for Model Years 2022 to 2031 Passenger Cars and Light Trucks, Contact: Joseph Bayer 888-327-4236.

EIS No. 20250168, Final Supplement, NMFS, VA, ADOPTION—Atlantic Fleet Training and Testing, Contact: Alyssa Clevenstine 301-427-8401.

The National Marine Fisheries Service (NMFS) has adopted the United States Navy's Final Supplement EIS No. 20250113 filed 08/06/2025 with the Environmental Protection Agency. The NMFS was a cooperating agency on this project. Therefore, republication of the document is not necessary.

Dated: December 1, 2025.
Nancy Abrams,
Deputy Director, Federal Activities Division.

[FR Doc. 2025-22056 Filed 12-4-25; 8:45 am]

BILLING CODE 6560-50-P